DEPARTMENT OF LABOR

Employment and Training Administration

[TA-W-39,188]

Rhoda Lee, Inc., New York, NY; Notice of Negative Determination Regarding Application for Reconsideration

By application dated June 12, 2001, the Amalgamated Ladies' Garment Cutters' Union, Local 10, UNITE requested administrative reconsideration of the Department's negative determination regarding eligibility to apply for Trade Adjustment Assistance (TAA), applicable to workers and former workers of the subject firm. The denial notice was signed on May 8, 2001, and published in the Federal Register on May 23, 2001 (66 FR 28553).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The petition for the workers of Rhoda Lee, Inc., New York, New York was denied because the “contributed importantly” group eligibility requirement of section 222(3) of the Trade Act of 1974, as amended; was not met. The denial was based on evidence indicating that markers the impacted worker group produced, were only used when the company contracted out work and the company did not import markers during the relevant period.

The petitioner alleges that Rhoda Lee, Inc. replaced domestic production (apparel) with imports, thus the need for markers decreased resulting in the displacement of the worker(s).

The impacted worker(s) of the subject plant producing markers were separately identifiable from other functions performed at the subject firm and therefore is the group of worker(s) which may be considered for TAA eligibility. The company did not import makers and only purchased markers from other domestic sources during the relevant period.

The imports of any other product (apparel) by the company is not relevant to this petition that was filed on behalf of worker(s) producing markers.

Conclusion

After review of the application and investigative findings, I conclude that there has been no error or misinterpretation of the law or of the facts which would justify reconsideration of the Department of Labor's prior decision. Accordingly, the application is denied.

Signed at Washington, DC this 26th day of October 2001.
Edward A. Tomchick,
Director, Division of Trade Adjustment Assistance.

[FR Doc. 01-28985 Filed 11-19-01; 8:45 am]

BILLING CODE 4510-30-M